DEPARTMENT OF ENERGY

Federal Energy Regulatory Commission

[Project No. 13855-000]

NortHydro, LLC; Notice of Preliminary Permit Application Accepted for Filing and Soliciting Comments, Motions To Intervene, and Competing Applications

November 18, 2010.

On October 1, 2010, and supplemented on November 16, 2010, NortHydro, LLC filed an application for a preliminary permit pursuant to section 4(f) of the Federal Power Act (FPA), proposing to study the feasibility of the Boulder Creek Water Power Project (Boulder Creek project) to be located on Boulder Creek in the vicinity of Bonner's Ferry, Idaho and Troy, Montana in Boundary County, Idaho and Lincoln County, Montana. The sole purpose of a preliminary permit, if issued, is to grant the permit holder priority to file a license application during the permit term. A preliminary permit does not authorize the permit holder to perform any land-disturbing activities or otherwise enter upon lands or waters owned by others without the owners' express permission.

The proposed project will consist of the following: (1) A 6-foot-high, 75-foot-long reinforced concrete diversion and inlet structure on Boulder Creek; (2) an impoundment of less than 1 acre-foot; (3) an 8,500-foot-long, 4.5-foot-diameter pressurized HDPE penstock from the intake structure to the powerhouse; (4) a powerhouse containing one or more turbines with a total installed capacity of 4.3 megawatts; (5) a concrete or rip-rap-lined tailrace channel to return flows from the powerhouse to Boulder Creek; (6) an approximately 5-mile-long, 115 kV transmission line which will tie into an undetermined interconnection; and (7) appurtenant facilities. The estimated annual generation of the Boulder Creek project would be 15.75 gigawatt-hours.

Applicant Contact: Darius Ruen, NortHydro, LLC, 3201 Huetter Rd Suite 102, Coeur d'Alene, ID 83814; phone: (208) 292-0820.

FERC Contact: Ryan Hansen (202) 502-8074.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13855-000) in the docket number field to access the document. For assistance, contact FERC Online Support.

Kimberly D. Bose,
Secretary.

[FR Doc. 2010-29841 Filed 11-26-10; 8:45 am]

BILLING CODE 6717-01-P